DEPARTMENT OF HEALTH AND HUMAN SERVICES

Centers for Medicare & Medicaid Services

[Document Identifier CMS-R-205 and CMS-R-206]

Agency Information Collection Activities: Submission for OMB Review; Comment Request

AGENCY: Centers for Medicare & Medicaid Services.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Information Collection Requirements Referenced in HIPAA title I for the Individual Market, Supporting Regulations at 45 CFR 148 (148.120, 148.122, 148.124, 148.126, and 148.128), Forms and Instructions; Use: The provisions of title I of the Health Insurance Portability and Accountability Act of 1996 (HIPAA) amend the Public Health Service Act (PHS Act) and are designed to make it easier for people to get access to health care coverage; to reduce the limitations that can be put on the coverage; and to make it more difficult for issuers to terminate the coverage. The information collection requirements will ensure that issuers in the individual market comply with HIPAA title I, provide individuals with certificates of creditable coverage necessary to demonstrate prior creditable coverage and file documentation with CMS for review in a Federal direct enforcement state. Requirements must also ensure states' flexibility to implement state alternative mechanisms. Form Number: CMS-R-205 (OMB#: 0938-0703); Frequency: Reporting—Yearly and Occasionally; Affected Public: Business or other For-profit and Not-for-profit institutions; Number of Respondents: 2,042; Total Annual Responses: 2,979,801; Total Annual Hours: 856,384. (For policy questions regarding this collection contact Louis Blank at 410-786-5511. For all other issues call 410-786-1326.)

2. Type of Information Collection Request: Extension of a currently approved collection; Title of Information Collection: Information Collection Requirements in HIPAA title I for the Group Market, Supporting Regulations 45 CFR 146 (146.111, 146.115, 146.117, 146.150, 146.152, 146.160 and 146.180) Forms and Instructions; Use: The provisions of title I of the Health Insurance Portability and Accountability Act of 1996 (HIPAA) are designed to make it easier for people to get access to health care coverage and to reduce the limitations that can be put on the coverage. This collection pertains to notices issued by group health insurance issuers and self-funded non-Federal governmental plans as required by 45 CFR 146. These notices are triggered by the issuance of certificates of creditable coverage; notification of preexisting condition exclusions; notification of special enrollment rights; and State review of issuers' filings of group market products or similar Federal review in cases in which a State is not enforcing a HIPAA group market provision. Form Number: CMS-R-206 (OMB#: 0938-0702); Frequency: Reporting—Yearly; Affected Public: Private Sector; Business or other For-profit and Not-for-profit institutions, and State, Local, or Tribal Governments; Number of Respondents: 8,050; Total Annual Responses: 37,002,217; Total Annual Hours: 2,920,012. (For policy questions regarding this collection contact Louis Blank at 410-786-5511. For all other issues call 410-786-1326.)

To be assured consideration, comments and recommendations for the proposed information collections must be received by the OMB desk officer at the address below, no later than 5 p.m. on July 27, 2009.

OMB, Office of Information and Regulatory Affairs, Attention: CMS Desk Officer, Fax Number: (202) 395-6974, E-mail: OIRA_submission@omb.eop.gov.

Dated: June 18, 2009.
Michelle Shortt,
Director, Regulations Development Group, Office of Strategic Operations and Regulatory Affairs.

[FR Doc. E9-15189 Filed 6-25-09; 8:45 am]

BILLING CODE 4120-01-P